DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of August and September, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,378; Flextronics Enclosures, Chambersburg, PA

TA-W-39,553; National Textiles LLC, Gaffney, SC

TA-W-39,215; Georgia-Pacific Corp., Plywood Div., Louisville, MS

TA-W-39,595; RHO Industries, Buffalo, NY

TA-W-39,530; Facemate Corp., Collierville, TN

TA-W-39,450; Northwestern Steel and Wire Co., Sterling, IL

TA-W-39,460; Johnson Controls, Automotive Systems Group, Taylor, MI

TA-W-39,131; Wilmot Printing Co., El Paso, TX

TA-W-38,618; Belding Hausman, Inc., Bogor City, NC

TA-W-39,311; T and K Timber, Inc., La Pine, OR

In the following cases, the investigation revealed that the criteria for eligibility have not been met for the reasons specified.

Increased imports did not contribute importantly to worker separations at the firm.

TA-W-39,434; Condor DC Power Supplies, Inc., Todd Products Group, Brentwood, NY

TA-W-39,172; Celanese AG, Celanese Acetate Div., Rock Hill, SC

TA-W-39,576; The Serco Co., Buffalo, NY

TA-W-39,158; ACS Group, Inc., Plastics Automation Engineering, Windsor, CT

TA-W-39,301; APV Crepaco, Inc., APV Americas, Inc., Lake Mills, WI

The investigation revealed that criteria (1) has not been met. A significant number or proportion of the workers did not become totally or partially separated from employment as required for certification.

TA-W-39,483; Franklin Industries, Franklin, PA

The workers firm does not produce an article as required for certification under section 222 of the Trade Act of 1974.

TA-W-39,535 & A,B; Computer Sciences Corp., Charleston, SC, Wilmington, NC and Kingston, NC

TA-W-39,555; Wilson Freight Associates, Inc., Buren, AR

Affirmative Determinations for Worker Adjustment Assistance

The following certifications have been issued; the date following the company name and location of each determination references the impact date for all workers of such determination.

TA-W-39,214; Bridgestone/Firestone Off-Road Tires, Bloomington, IL April 25, 2000.

TA-W-39,561; 411 Warehouse Corp., Madisonville, TN: June 21, 2000.

TA-W-39,363; Pratt and Whitney HAC, Grand Prairie, TX: May 29, 2000.

TA-W-39,545; Invensys Systems, Inc., Systems Manufacturing, Foxboro, MA: June 4, 2000.

TA-W-39,181; Southwire Co,—Arkansas Plant, Osceola, AR: April 12, 2000.

TA-W-39,726; Act Manufacturing, Corinth, MS: July 12, 2000.

TA-W-39,581; Ross Allen Design, Bean Station, TN: June 21, 2000.

TA-W-39,765; Rugged Sportswear, LLC, LaGrange, NC: July 18, 2000.

TA-W-39,516; Woods Industries, Loogootee Manufacturing, Loogootee, IN; June 5, 2000.

TA-W-39,636; Angelica Corp., Angelica Image Apparel, Mountain View, MO: June 28, 2000.

TA-W-39,597; Adaptec, Inc., Orlando, FL: June 21, 2000.

TA-W-39,223; Old Forge Lamp & Shade, Div. of Woodstock Wire Works, Inc., Old Forge, PA: April 10, 2000.

TA-W-39,481; Elder Manufacturing Co., Inc., Dexter, MO: June 4, 2000.

TA-W-39,766; Yazoo Uniforms, Yazoo City, MS: June 23, 2000.

TA-W-39,696; Hunt Forest Products, Inc., Castor, LA: July 13, 2000.

TA-W-39,053; SGL Carbon Corp., Carbon and Graphite Unit, Niagara Falls, NY: March 29, 2000.

TA-W-39,265; McGinley Mills, Inc., Easton, PA: April 26, 2000.

TA-W-39,240; FCI USA, Inc., Electrical Connectors, Hanover, PA: April 26, 2000.

TA-W-39,240A; JFC Temporary Works of FCI USA, Inc., Electrical Connectors, Clearfield, PA: May 7, 2000.

TA-W-39,627; Timkin, Columbus Railroad Bearing Plant, Columbus, OH: June 19, 2000.

TA-W-39,649; Nazareth/Century Mills, Inc., Quitman, MS: August 24, 2001.

TA-W-38,990; AMI Candle, Inc., Fall River, MA: March 24, 2000.

TA-W-29,772; Manitowoc Boom Trucks, Inc., York, PA: July 27, 2000.

TA-W-39,157 & A; Butwin Division, Rennoc Corp., St. Paul, MN and Litchfield, MN: April 16, 2000.

TA-W-39,459 & A; The Lane Co., Altavista, VA and Rocky Mount, VA: June 6, 2000.

TA-W-39,814; Tingley Rubber Corp., South Plainfield, NJ

TA-W-39,692 & A; AM Communications, Quakertown, PA and NeSTronix, Inc., Quakertown, PA: July 11, 2000.

TA-W-39,492; APW, Ltd, Erie, PA: June 6, 2000.

TA-W-39,714; American Drillbox Co., Caruthersville, MO: July 18, 2000.

TA-W-39,319; Stanley Works Hardware Div., New Britain, CT: June 11, 2001.

TA-W-39,699; Sterling Lebanon Packaging Corp., Jeannette, PA: July 13, 2000.

TA-W-39,622; UCAR Carbon Co., Inc. Clarksville Plant, Clarksville, TN: July 2, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of August and September, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada or articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05172; Admiral Marine Construction, Inc, Port Angeles, WA

NAFTA-TAA-04850; APV Crepaco, Inc., APV Americas, Lake Mills, WI

NAFTA-TAA-04756 & A,B; Butwin Division of Rennoc Corp., St. Paul, MN and Litchfield, MN

NAFTA-TAA-04706; Form Tech Enterprises, Inc., Orwigsburg, PA

NAFTA-TAA-05064; Timkin, Columbus Railroad Bearing Plant, Columbus, OH

NAFTA-TAA-04829; SGL Carbon Corp., Carbon and Graphite Unit, Niagara Falls, NY

NAFTA-TAA-05117; Besser Lithibar, Holland, MI

NAFTA-TAA-05032; National Textiles, LLC, Gaffney, SC

NAFTA-TAA-04979; Johnson Controls, Automotive Systems Group, Taylor, MI

Affirmative Determinations NAFTA-TAA

NAFTA-TAA-05096; Sterling Lebanon Packaging Corp., Jeanette, PA: July 13, 2000.

NAFTA-TAA-05052; UCAR Carbon Co., Inc., Clarksville, TN: July 5, 2000.

NAFTA-TAA-04818; McGinley Mills, In., Easton, PA: April 26, 2000.

NAFTA-TAA-05007; Sola Optical USA, Petaluma, CA: March 30, 2000.

NAFTA-TAA-04837; FCI USA, Inc., Electrical Connectors, Hanover, PA: April 24, 2000

NAFTA-TAA-04837A; JFC Temporary Workers of FCI USA, Inc., Electrical Connectors, Clearfield, PA: May 7, 2000

NAFTA-TAA-04951; Celanese AG, Celanese Acetate Div., Rock Hill, SC: June 1, 2000.

NAFTA-TAA-04994; Invensys Systems, Inc., Systems Manufacturing, Foxboro, MA: June 4, 2000.

NAFTA-TAA-04815; Penridge Manufacturing, Inc., Freeland, PA: April 27, 2000.

NAFTA-TAA-04819; Old Forge Lamp and Shade, Div. Of Woodstock Wire Works, Inc., Old Forge, PA: April 10, 2000.

NAFTA-TAA-04886; Crowntex, Inc., Wrightsville, GA: May 8, 2000.

NAFTA-TAA-04995; Elder Manufacturing Co., Inc., Dextger, MO: June 14, 2001

NAFTA-TAA-05086; Hunt Forest Products, Inc., Castor, LA: July 13, 2000.

NAFTA-TAA-05063; Angelicia Corp., Angelica Image Apparel, Mounting View, MO: July 17, 2000.

NAFTA-TAA-05093; A.O. Smith Corp., Electrical Products Co., Mebane, NC: July 23, 2000.

NAFTA-TAA-04707; Wabash Alloys, LLC, Oak Creek, WI: March 29, 2000.

NAFTA-TAA-05030; Ross Allen Design, Bean Station, TN: June 28, 2000.

NAFTA-TAA-04749; Hammond and Associates, Inc., Lexington, AL: April 4, 2000.

NAFTA-TAA-04824; Mother Parker's Tea and Coffee, Inc., Amherst, NY: April 10, 2000.

NAFTA-TAA-05047; Graphic Controls, Cherry Hill Facility, Cherry Hill, NJ: June 26, 2000.

I hereby certify that the aforementioned determinations were issued during the month of August and September, 2001. Copies of these determinations are available for inspection in Room C-5311, U.S. Department of Labor, 200 Constitution Avenue, NW., Washington, DC 20210 during normal business hours or will be mailed to persons who write to the above address.

Dated: September 14, 2001
Edward A. Tomchick,
Director, Division of Trade Adjustment Assistance.

[FR Doc. 01-23531 Filed 9-20-01; 8:45 am]

BILLING CODE 4510-30-M